SMALL BUSINESS ADMINISTRATION

Public Federal Regulatory Enforcement Fairness Hearing; Small Business Administration Region III Regulatory Fairness Board

The Small Business Administration Region III Regulatory Fairness Board and the SBA Office of the National Ombudsman will hold a Public Hearing on Tuesday, October 28, 2003 at 1:00 p.m. at Delaware Biotech Institute (Delaware Technology Park), 15 Innovation Way, Newark, DE 19711, to receive comments and testimony from small business owners, small government entities, and small non-profit organizations concerning regulatory enforcement and compliance actions taken by federal agencies.

Anyone wishing to attend or to make a presentation must contact Jayne E. Armstrong in writing or by fax, in order to be put on the agenda. Jayne E. Armstrong, District Director, Delaware District Office, 824 North Market Street, Suite 610, Wilmington, DE 19801, phone (302) 573-6382, fax (303) 573-6060, e-mail: jayne.armstrong@sba.gov.

For more information, see our Web site at http://www.sba.gov/ombudsman.

Dated: October 7, 2003.
Peter Sorum,
National Ombudsman (Acting).

[FR Doc. 03-25755 Filed 10-9-03; 8:45 am]

BILLING CODE 8025-01-P